DEPARTMENT OF AGRICULTURE

Forest Service

West Troy EIS; Kootenai National Forest, Lincoln County, MT

AGENCY: Forest Service, USDA.

ACTION: Notice of intent to prepare an environmental impact statement.

SUMMARY: The Forest Service will prepare an Environmental Impact Statement (EIS) for a proposal for urban interface fuels treatments, vegetation management, watershed rehabilitation activities, and access management changes, including road decommissioning. The project is located on the Three Rivers Ranger District, Kootenai National Forest, Lincoln County, Montana, west of Troy, Montana.

Scoping Comment Date

Comments concerning the scope of the analysis should be received by August 31, 2003.

ADDRESSES: Written comments and suggestions concerning the scope of the analysis should be sent to Michael L. Balboni, District Ranger, Three Rivers Ranger District, 1437 Hwy 2, Troy, MT 59935.

FOR FURTHER INFORMATION CONTACT: Contact Jim Benedict or Steve Straley, Team Leaders, Three Rivers Ranger District, 1437 Hwy 2, Troy, MT 59935. Phone: (406) 295-4693.

SUPPLEMENTARY INFORMATION: The project area is immediately west of Troy, Montana, within T31N, R34W; T32N, R34W; T32N, R35W; PMM, Lincoln County, Montana; T58N, R3E; T59N, R2E; T59N, R3E; PMM, Bonner County, Idaho, and T60N, R3E, PMM, Boundary County, Idaho. The project area runs from the Kootenai River west to the boundary between the Kootenai and Idaho Panhandle National Forests. The project area is 90,770 acres, of which 49,270 acres are in Montana and 41,500 acres are in Idaho. Callahan Creek, Brush Creek, Ruby Creek, and Star Creek are the major drainages in the project area.

The purpose and need for this project is to: (1) Reduce fuels in the urban interface and adjacent to private timberlands in accordance with the National Fire Plan; (2) Manage for vegetative conditions that are more suitable to a fire-dependent ecosystem and, in the long term, encourage more resilient and sustainable forest conditions; (3) Contribute forest products to the economy and provide employment opportunities; (4) Improve conditions in old growth habitat; (5) Improve growing conditions and long-term management options for overstocked sampling/pole stands; and (6) Reduce adverse effects of roads on fish and water quality in the Callahan Creek drainage by treating unneeded roads.

To meet this purpose and need this project proposes:

(1) Intermediate tree harvest and fuels reduction treatments on approximately 1,036 acres to reduce fuels, create a more open forest structure, promote fire-adapted species, retain large overstory structure, and reduce vulnerability to insects, and disease. Stand replacement harvest and supplemental conifer planting would occur in areas with high insect and disease levels or where it is desirable to promote a more diverse species mix (approximately 216 acres). Approximately 1,087 acres of the total 1,242 acres of intermediate and regeneration harvest and associated fuels treatments would occur in the urban interface area west of Troy. Approximately 165 acres of the proposed harvest and fuels treatments would result in fuels reduction adjacent to private timberlands outside of the area of urban interface.

No new permanent roads will be built. It is estimated that 4 temporary roads ranging from 0.2 to 0.6 miles would be constructed to accomplish this harvest and would be decommissioned following activities. Best Management Practice work and road maintenance work would be implemented on identified roads.

Proposed harvest will contribute approximately 8 million board feet (MMBF) or 19,500 hundred cubic feet (CCF) of timber products to the economy. This project would also result in employment associated with timber sales and service contracts.

(2) Mechanical fuels reduction treatments on approximately 43 acres in Forest Plan designated old growth located within the urban interface.

(3) Maintenance burning within the next 10 years on approximately 757 acres, including some of the harvest and mechanical fuels treatment units.

A maintenance burn is proposed on National Forest and State of Montana lands to reduce fuels, thin encroaching conifers, use fire as an ecological agent of disturbance, and to rejuvenate browse (30 acres). Implementation of this burn would be dependent on the State receiving direct funding or funding from a private agency.

(4) Pre-commercial thinning on approximately 230 acres to improve growing conditions.

(5) Decommissioning portions of five roads (approximately 6 miles) which were determined through an interdisciplinary process to be unneeded and at high risk of contributing sediment to Callahan Creek. The decommissioning work would include outsloping portions of the road prism, installing waterbars, and reestablishing stream crossings.

(6) Design features and mitigations to maintain and protect resource values.

Range of Alternatives

The Forest Service will consider a range of alternatives. One of these will be the “no action” alternative in which none of the proposed activities will be implemented. Additional alternatives will examine varying levels and locations for the proposed activities to achieve the proposal's purposes, as well as to respond to the issues and other resource values.

Public Involvement and Scoping

The public is encouraged to take part in the process and to visit with Forest Service officials at any time during the analysis and prior to the decision. The Forest Service will be seeking information, comments, and assistance from Federal, State, and local agencies, Tribal governments, and other individuals or organizations that may be interested in, or affected by, the proposed action. This input will be used in preparation of the draft and final EIS. The scoping process will include:

1. Identifying potential issues.

2. Identifying major issues to be analyzed in depth.

3. Identifying alternatives to the proposed action.

4. Exploring additional alternatives that will be derived from issues recognized during scoping activities.

5. Identifying potential environmental effects of this proposal (i.e. direct, indirect, and cumulative effects and connected actions).

Estimated Dates for Filing

The draft EIS is expected to be filed with the Environmental Protection Agency (EPA) and to be available for public review in December 2003. At that time EPA will publish a Notice of Availability of the draft EIS in the Federal Register. The comment period on the draft EIS will be 45 days from the date the EPA publishes the Notice of Availability in the Federal Register. It is very important that those interested in the management of this area participate at that time.

The final EIS is scheduled to be completed in April 2004. In the final EIS, the Forest Service is required to respond to comments and responses received during the comment period that pertain to the environmental consequences discussed in the draft EIS and to applicable laws, regulations, and policies considered in making a decision regarding the proposal.

Reviewer's Obligations

The Forest Service believes it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage may be waived or dismissed by the courts. City of Angoon v. Hodel, 803 F.2d 1016, 1022 (9th Cir. 1986) and Wisconsin Heritages Inc. v. Harris, 490 F. Supp. 1334, 1338 (E.D. Wis. 1980). Because of these court rulings, it is very important that those interested in this proposed action participate by the close of the 45 day comment period so that substantive comments and objections are made available to the Forest Service at a time when it can meaningfully consider and respond to them in the final EIS.

To be most helpful, comments on the draft EIS should be as specific as possible and may address the adequacy of the statement or the merit of the alternatives discussed. Reviewers may wish to refer to the Council on Environmental Quality regulations for implementing the procedural provisions of the National Environmental Policy Act at 40 CFR 1503.3 in addressing these points.

Responsible Official

The District Ranger of the Three Rivers Ranger District, Michael L. Balboni, is the Responsible Official. As Responsible Official, he will decide if the proposed project will be implemented and will document the decision and reasons for the decision in the Record of Decision.

Dated: July 15, 2003.
Bob Castaneda,
Forest Supervisor, Kootenai National Forest.

[FR Doc. 03-18834 Filed 7-23-03; 8:45 am]

BILLING CODE 3410-11-M